NUCLEAR REGULATORY COMMISSION

Advisory Committee on Reactor Safeguards; Subcommittee Meeting on Thermal-Hydraulic Phenomena; Notice of Meeting

The ACRS Subcommittee on Thermal-Hydraulic Phenomena will hold a meeting on February 10-11, 2004, Room T-2B3, 11545 Rockville Pike, Rockville, Maryland.

Portions of the meeting may be closed to public attendance to discuss Westinghouse proprietary information per 5 U.S.C. 552b(c)(4).

The agenda for the subject meeting shall be as follows:

Tuesday and Wednesday, February 10-11, 2004-8:30 a.m. until the conclusion of business

The Subcommittee will discuss the resolution of open thermal-hydraulic issues related to the AP1000 design, including ADS-4 entrainment, long term cooling, boron concentration, and computer code modeling differences. The Subcommittee will hear presentations by and hold discussions with representatives of Westinghouse and the NRC staff regarding these matters. The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted only during those portions of the meeting that are open to the public.

Further information regarding this meeting can be obtained by contacting the Designated Federal Official between 7:30 a.m. and 4:15 p.m. (ET). Persons planning to attend this meeting are urged to contact the above named individual at least two working days prior to the meeting to be advised of any potential changes to the agenda.

Dated: January 23, 2004.
Sher Bahadur,
Associate Director for Technical Support, ACRS/ACNW.

[FR Doc. 04-2114 Filed 2-2-04; 8:45 am]

BILLING CODE 7590-01-P